DEPARTMENT OF COMMERCE

International Trade Administration

[A-122-840]

Carbon and Certain Alloy Steel Wire Rod From Canada: Extension of Time Limit for Final Results of Antidumping Duty Administrative Review

AGENCY: Import Administration, International Trade Administration, Department of Commerce.

EFFECTIVE DATE: February 28, 2008.

FOR FURTHER INFORMATION CONTACT: Steve Bezirganian or Robert James, AD/CVD Operations, Office 7, Import Administration, International Trade Administration, U.S. Department of Commerce, 14th Street and Constitution Avenue, NW., Washington, DC 20230; telephone: (202) 482-1131 or (202) 482-0649, respectively.

SUPPLEMENTARY INFORMATION:

Background

On November 7, 2007, the Department published the preliminary results of this administrative review of the antidumping duty order on carbon and certain alloy steel wire rod from Canada. See Notice of Preliminary Results of Antidumping Duty Administrative Review: Carbon and Certain Alloy Steel Wire Rod From Canada, 72 FR 62816 (November 7, 2007) (Preliminary Results). This review covers Ivaco Rolling Mills 2004 L.P. and Sivaco Ontario (a division of Sivaco Wire Group 2004 L.P.) (collectively referred to as “Ivaco”), for the period October 1, 2005 to September 30, 2006. On November 29, 2007, we sent a supplemental questionnaire to Ivaco pertaining to the level of trade issue. Ivaco submitted its response on December 13, 2007. Petitioners (Mittal Steel USA Inc.—Georgetown, Gerdau USA Inc., Nucor Steel Connecticut Inc., Keystone Consolidated Industries, Inc., and Rocky Mountain Steel Mills) provided comment on Ivaco's response on December 21, 2007. Ivaco responded to petitioners' comments on December 31, 2007. The Department extended the deadlines for case filing briefs and rebuttal briefs because of its request for new information after issuing its preliminary results. Ivaco and petitioners submitted their case briefs on January 23, 2008. Ivaco and petitioners submitted their rebuttal briefs on January 30, 2008. The final results are currently due not later than March 6, 2008.

Extension of Time Limit for Final Results

Section 751(a)(3)(A) of the Tariff Act of 1930, as amended (the Act), requires the Department to issue the final results of an administrative review within 120 days after the date on which the preliminary results were published. However, if it is not practicable to complete the review within this time period, section 751(a)(3)(A) of the Act allows the Department to extend the time limit for the final results up to 180 days from the date of publication of the preliminary results.

We determine that it is not practicable to complete the final results of this review within current statutory limits. The Department requires additional time to evaluate the information submitted by parties after the preliminary results were published. Therefore, we are extending the deadline for the final results of this review by 60 days, until no later than May 5, 2008, in accordance with section 751(a)(3)(A) of the Act.

We are issuing and publishing this notice in accordance with sections 751(a)(1), 751(a)(3)(A), and 777(i)(1) of the Act.

Dated: February 21, 2008.
Stephen J. Claeys,
Deputy Assistant Secretary for Import Administration.

[FR Doc. 08-870 Filed 2-27-08; 8:45 am]

BILLING CODE 3510-DS-M